DEPARTMENT OF COMMERCE

International Trade Administration

[A-412-801, A-427-801, A-428-801, A-475-801]

Antifriction Bearings (Other Than Tapered Roller Bearings) and Parts Thereof from France, Germany, Italy, and the United Kingdom; Amended Final Results of Antidumping Duty Administrative Reviews Pursuant to Final Court Decisions

AGENCY: Import Administration, International Trade Administration, Department of Commerce.

SUMMARY: On October 19, 2005, in response to its action in SNR Roulements et al. v. United States, Consol. Court No. 97-10-01825, Slip Op. 05-67 (June 13, 2005), the United States Court of International Trade (CIT) affirmed the Department of Commerce's (the Department's) remand redetermination concerning the final assessment rates for the administrative review of the antidumping duty order on antifriction bearings and parts thereof (AFBs) from France. On October 28, 2005, in response to its actions in NTN Bearing Corp. of America et al. v. United States, Court No. 97-10-01800 (July 7, 2005), and FAG Italia S.p.A. et al. v. United States, Court No. 97-02-00260-S (July 7, 2005), the CIT affirmed the Department's remand redetermination concerning the final assessment rates for the administrative reviews of the antidumping duty orders on AFBs from Germany and Italy. On November 4, 2005, in response to its action in FAG Kugelfischer Georg Schafer AG et al. v. United States, Court No. 97-02-00260 (July 7, 2005), the CIT affirmed the Department's remand redetermination concerning the final assessment rates for the administrative reviews of the antidumping duty orders on AFBs from Germany.

On April 27, 2001, the CIT affirmed the Department's remand redetermination with respect to the antidumping duty orders on AFBs from France. See SKF USA Inc. et al. v. United States, Consol. Court No. 97-02-00269-S1, Slip. Op. 01-54 (April 27, 2001). On December 21, 2000, the CIT affirmed the Department's remand redetermination with respect to the antidumping duty orders on AFBs from the United Kingdom. See RHP Bearings Ltd. et al v. United States, Consol. Court No. 97-02-00217, Slip Op. 00-168 (December 21, 2000). The periods covered by these administrative reviews are May 1, 1994, through April 30, 1995, and May 1, 1995, through April 30, 1996. The merchandise covered by these reviews are ball bearings and parts thereof (BBs), cylindrical roller bearings and parts thereof (CRBs), and spherical plain bearings and parts thereof (SPBs). Because the time period for filing an appeal has expired and there are now final and conclusive court decisions in these actions, we are amending our final results of the reviews and we will instruct U.S. Customs and Border Protection to liquidate entries subject to these reviews.

EFFECTIVE DATE: March 14, 2006.

FOR FURTHER INFORMATION CONTACT: Kristin Case or Richard Rimlinger, AD/CVD Operations, Office 5, Import Administration, U.S. Department of Commerce, 14th Street and Constitution Avenue, NW., Washington, DC 20230; telephone: (202) 482-3174 or (202) 482-4477, respectively.

SUPPLEMENTARY INFORMATION:

Background

On January 15, 1997, the Department published Antifriction Bearings (Other Than Tapered Roller Bearings) and Parts Thereof From France, Germany, Italy, Japan, Singapore, and the United Kingdom; Final Results of Antidumping Duty Administrative Reviews, 62 FR 2081 (January 15, 1997), as amended by Antifriction Bearings (Other Than Tapered Roller Bearings) and Parts Thereof From France, Germany, Italy, Japan, Singapore, and the United Kingdom; Amended Final Results of Antidumping Duty Administrative Reviews, 62 FR 14391 (March 26, 1997) (collectively AFBs 6). On October 17, 1997, the Department published Antifriction Bearings (Other Than Tapered Roller Bearings) and Parts Thereof From France, Germany, Italy, Japan, Romania, Singapore, Sweden, and the United Kingdom; Final Results of Antidumping Duty Administrative Reviews, 62 FR 54043 (October 17, 1997), as amended by Antifriction Bearings (Other Than Tapered Roller Bearings) and Parts Thereof From France, Germany, Italy, Japan, Romania, Singapore, Sweden, and the United Kingdom; Amended Final Results of Antidumping Duty Administrative Reviews, 62 FR 61963 (November 20, 1997) (collectively AFBs 7). The periods of review for AFBs 6 and AFBs 7 are May 1, 1994, through April 30, 1995, and May 1, 1995, through April 30, 1996, respectively. The classes or kinds of merchandise covered by these reviews are BBs, CRBs, and SPBs.

The AFBs 6 respondents involved in the litigation are as follows:

* FAG Italia S.p.A. and FAG Bearings Corporation (collectively FAG Italy)

* FAG Kugelfischer Georg Schäfer AG and FAG Bearings Corporation (collectively FAG Germany)

* INA Walzlager Schaeffler KG and INA Bearing Company, Inc. (collectively INA Germany)

* NSK Bearings Europe Ltd. and RHP Bearings Ltd. (collectively NSK/RHP)

* NTN Kugellagerfabrik (Deutschland) GmbH and NTN Bearing Corporation of America (collectively NTN Germany)

* SNR Roulements (SNR France)

* SKF France S.A., Sarma, and SKF USA Inc. (collectively SKF France)

* SKF GmbH and SKF USA Inc. (collectively SKF Germany)

* SKF Industrie S.p.A. and SKF USA Inc. (collectively SKF Italy)

The AFBs 7 respondents involved in the litigation are as follows:

* FAG Kugelfischer Georg Schäfer AG and FAG Bearings Corporation (collectively FAG Germany)

* INA Walzlager Schaeffler KG and INA Bearing Company, Inc. (collectively INA Germany)

* NTN Kugellagerfabrik (Deutschland) GmbH and NTN Bearing Corporation of America (collectively NTN Germany)

* SNR Roulements (SNR France)

* SKF France S.A., Sarma, and SKF USA Inc. (collectively SKF France)

* SKF GmbH and SKF USA Inc. (collectively SKF Germany)

AFBs 6 from Germany and Italy / AFBs 7 from France and Germany

In each of these proceedings, the Department had completed previous remand redeterminations:

* FAG Italia, S.p.A. et al. v. United States, Consol. Court No. 97-02-00260-S, Slip Op. 00-154 (November 21, 2000) (remanding AFBs 6 with respect to the antidumping duty orders on AFBs from Italy and instructing the Department to: (1) Attempt to match FAG's and SKF's U.S. sales to similar home-market sales before resorting to constructed value (CV); (2) exclude any transactions that were not supported by consideration from FAG's and SKF's U.S. sales databases; (3) include all expenses in “total United expenses” in the calculation of “total expenses” for FAG's constructed export-price (CEP) profit ratio; (4) remove the circumstance-of- sale adjustment for certain advertising expenses from FAG's normal value (NV); (5) reconsider the decision to calculate SKF's home-market credit-rate expense based upon price and then apply the rate to cost; and (6) re-examine the programming language used to make certain foreign-currency conversions)

* FAG Kugelfischer Georg Schäfer AG et al. v. United States, Consol. Court No. 97-02-00260, Slip Op. 01-13 (February 2, 2001) (remanding AFBs 6 with respect to the antidumping duty orders on AFBs from Germany and instructing the Department to: 1) attempt to match FAG's and SKF's U.S. sales to similar home-market sales before resorting to CV; 2) exclude any transactions that were not supported by consideration from FAG's and SKF's U.S. sales databases; 3) include all expenses in “total United States expenses” in the calculation of “total expenses” for FAG's and INA's CEP-profit ratio; 4) reconsider the decision to calculate SKF's home-market credit-rate expense based upon price and then apply the rate to cost; and 5) convert certain expenses from the foreign currency in calculating export price and CEP for INA)

* SNR Roulements et al. v. United States, Consol. Court No. 97-10-01825, Slip Op. 00-131 (October 13, 2000) (remanding AFBs 7 with respect to the antidumping duty orders on AFBs from France and instructing the Department to (1) annul all findings and conclusions made pursuant to the duty-absorption inquiry and (2) include all expenses included in “total United States expenses” in the calculation of “total expenses” for SNR)

* NTN Bearing Corp. of America et al. v. United States, Consol. Court No. 97-10-01800, Slip Op. 01-76 (June 22, 2001) (remanding AFBs 7 with respect to the antidumping duty orders on AFBs from Germany and instructing the Department to: (1) Annul all findings and conclusions made pursuant to the duty-absorption inquiry; (2) attempt to match U.S. sales to similar home-market sales before resorting to CV; (3) reconsider the Department's decision to deny INA's downward home-market billing adjustments; (4) clarify how the Department complied with sections 776 and 782 of the Tariff Act of 1930, as amended (the Act), for using facts available and applying an adverse inference and, if appropriate, give INA the opportunity to remedy or explain any deficiency regarding its alleged sample sales; and (5) include all expenses included in “total United States expenses” in the calculation of “total expenses” for INA)

Although each remand redetermination involved multiple issues, the Department's methodology for calculating profit for CEP sales was a subject of each remand. Specifically, the CIT directed the Department to include all expenses included in “total United States expenses” in the calculation of “total expenses” when computing the CEP-profit rate. In each proceeding, the CIT affirmed the Department's remand results in their entirety. See SNR Roulements et al. v. United States, Consol. Court No. 97-10-01825, Slip Op. 01-17 (February 23, 2001); FAG Kugelfischer Georg Schäfer AG et al. v. United States, Consol. Court No. 97-02-00260, Slip Op. 01-107 (August 20, 2001); FAG Italia S.p.A. v. United States, Consol. Court No. 97-02-00260-S, Slip Op. 01-108 (August 20, 2001); NTN Bearing Corporation of America et al. v. United States, Consol. Court No. 97-10-01800, Slip Op. 01-136 (November 27, 2001).

The Department appealed the CIT's decisions concerning the Department's CEP-profit calculation methodology. The United States Court of Appeals for the Federal Circuit (CAFC) determined that the CIT had erred in its decision that the Department was required to include imputed credit and inventory carrying costs in “total expenses” when they were included in “total United States expenses.” The CAFC reversed the CIT and remanded the cases with the instructions that respondents be provided an opportunity to make a showing that their dumping margins were determined wrongly because the Department's use of actual expenses did not account for U.S. credit and inventory carrying costs in the calculation of total expenses. See SNR Roulements et al. v. United States, 402 F.3d 1358, 1363 (Fed. Cir. 2005), and FAG Italia S.p.A. v. United States, 402 F.3d 1356, 1357 (Fed. Cir. 2005) (consolidated appeal). The CIT remanded the proceedings and directed the Department to allow respondents an opportunity to show that their margins were determined incorrectly because the Department's use of actual expenses did not account for U.S. credit and inventory carrying costs. SNR Roulements et al. v. United States, Consol. Court No. 97-10-01825, Slip Op. 05-67 (June 13, 2005); FAG Kugelfischer Georg Schäfer AG et al. v. United States, Consol. Court No. 97-02-00260 (July 7, 2005); FAG Italia S.p.A. et al. v. United States, Consol. Court No. 97-02-00260-S (July 7, 2005); NTN Bearing Corporation of America et al. v. United States, Consol. Court No. 97-10-01800 (July 7, 2005). Because none of the respondents made the required showing, the Department determined that it had used actual expenses as a measure of total expenses in the CEP-profit calculation accurately. In each of the proceedings, the CIT affirmed the remand results. SNR Roulements et al. v. United States, Consol. Court No. 97-10-01825, Slip Op. 05-136 (October 19, 2005); FAG Kugelfischer Georg Schäfer AG et al. v. United States, Consol. Court No. 97-02-00260, Slip Op. 05-143 (November 4, 2005); FAG Italia S.p.A. et al. v. United States, Consol. Court No. 97-02-00260-S, Slip Op. 05-140 (October 28, 2005); NTN Bearing Corporation of America et al. v. United States, Consol. Court No. 97-10-01800, Slip Op. 05-141 (October 28, 2005).

AFBs 6 from France

On October 11, 2000, the CIT remanded AFBs 6 with respect to the antidumping duty orders on AFBs from France to the Department. See SKF USA Inc. et al. v. United States, Consol. Court No. 97-02-00269-S1, Slip Op. 00-128 (October 11, 2000). The CIT instructed the Department to: (1) Reconsider its decision to calculate SKF's home-market credit expense based upon price and then apply that rate to cost; (2) exclude any transactions that were not supported by consideration from SKF's U.S. sales database and to adjust the dumping margins accordingly; (3) first attempt to match SKF's U.S. sales to similar home-market sales before resorting to CV; (4) assign the correct level-of-trade code for SKF's export-price sales; (5) determine whether SKF's billing adjustment two is insignificant within the meaning of section 777A of the Act; (6) reconsider the treatment of depreciation expenses incurred in France in calculating CEP for SNR. Subsequently, the CIT affirmed the Department's remand redetermination. See SKF USA Inc. et al. v. United States, Consol. Court No. 97-02-00269-S1, Slip. Op. 01-54 (April 27, 2001).

AFBs 6 from the United Kingdom

On May 27, 1997, the CIT granted NSK/RHP's motion for an expedited remand to correct clerical errors and the Department's cross-motion for leave to correct an additional clerical error and remanded AFBs 6 with respect to the antidumping duty orders on AFBs from the United Kingdom. See RHP Bearings Ltd. et al. v. United States, Consol. Court No. 97-02-00217, Slip Op. 97-63 (May 27, 1997). The CIT instructed the Department to: (1) Calculate credit for CV separately by class of merchandise; (2) calculate CV credit by converting the foreign currency values to U.S. dollars only once; (3) correct the programming language so that sales of CRBs were not sampled; (4) include credit insurance when calculating direct selling expenses for cost of production; (5) weight the values for total home-market selling expenses and total home-market movement expenses by a factor of two to establish uniform weighting of home-market expenses; (6) apply the default credit period for those U.S. sales missing payment dates to net selling price; (7) multiply the entered value for sampled U.S. sales by the weighting factor only once when calculating importer-specific duty rates. Subsequently, the CIT affirmed the Department's remand redetermination. See RHP Bearings Ltd. et al v. United States, Consol. Court No. 97-02-00217, Slip Op. 97-90 (July 7, 1997).

On December 16, 1999, the CIT remanded the case and instructed the Department to exclude from NSK/RHP's U.S. sales database any sample transactions that were not supported by consideration and to include imputed inventory carrying costs in the calculation of CEP offset when matching CEP sales to CV. See RHP Bearings Ltd. et al v. United States, Consol. Court No. 97-02-00217, Slip Op. 99-134 at 54 (December 16, 1999). Subsequently, the CIT affirmed the Department's remand redetermination. See RHP Bearings Ltd. et al v. United States, Consol. Court No. 97-02-00217, Slip Op. 00-168 (December 21, 2000).

As there are now final and conclusive court decisions with respect to the companies affected by these remand orders, we are amending our final results of reviews for these companies. We will instruct U.S. Customs and Border Protection (CBP) to liquidate the relevant entries subject to these reviews in accordance with our remand results.

Amended Final Results of Reviews

We are now amending the final results of the 1994-1995 administrative reviews of the antidumping duty orders on AFBs from France, Germany, Italy, and the United Kingdom to reflect the revised weighted-average margins. We determine that the revised weighted-average margins for the period May 1, 1994, through April 30, 1995, are as follows:¹

¹ Litigation did not result in any changes to the weighted-average margins for BBs from NTN Germany or SPBs from SKF France.

| BBs (%%) | CRBs (%%) | SPBs (%%)
FAG Italy | 4.12 | -- | --
SKF Italy | 2.86 | -- | --
FAG Germany | 13.42 | 22.59 | 12.08
INA Germany | 19.43 | 18.31 | --
SKF Germany | 2.33 | 9.34 | 6.19
SNR France | 4.29 | 6.36 | --
SKF France | 5.08 | -- | --
NSK/RHP—United Kingdom | 15.76 | 15.50 | --

Also, we are now amending the final results of the 1995-1996 administrative reviews of the antidumping duty orders on AFBs from Germany to reflect the revised weighted-average margins. We determine that the revised weighted-average margins for the period May 1, 1995, through April 30, 1996, are as follows²:

² The subsequent litigation did not result in any changes in the weighted-average margins for NTN Germany, SNR France, SKF France, and SKF Germany.

| BBs (%%) | CRBs (%%) | SPBs (%%)
FAG Germany | 13.25 | 19.53 | 10.32
INA Germany | 44.53 | 20.09 | 28.62

Accordingly, the Department will determine and CBP will assess appropriate antidumping duties on entries of the subject merchandise produced and/or exported by the affected companies. Individual differences between U.S. price and normal value may vary from the above percentages. The Department will issue assessment instructions to CBP within 15 days of publication of this notice.

We are issuing and publishing this notice in accordance with sections 751(a)(1) and 777(i)(1) of the Act.

Dated: March 7, 2006.
David M. Spooner,
Assistant Secretary for Import Administration.

[FR Doc. E6-3619 Filed 3-13-06; 8:45 am]

BILLING CODE 3510-DS-S